DEPARTMENT OF COMMERCE

National Oceanic and Atmospheric Administration

[I.D. 051904C]

South Atlantic Fishery Management Council; Public Meetings

AGENCY: National Marine Fisheries Service (NMFS), National Oceanic and Atmospheric Administration (NOAA), Commerce.

ACTION: Notice of public meetings.

SUMMARY: The South Atlantic Fishery Management Council (Council) will hold a joint meeting of the Council's Mackerel Committee and the Gulf of Mexico Fishery Management Council's Mackerel Committee, a joint meeting of the South Atlantic Council's Mackerel Committee and Mackerel Advisory Panel, and meetings of its Mackerel Committee, Scientific and Statistical Committee, Advisory Panel Selection Committee, Standard Operating Policy and Procedure (SOPPs) Committee, Shrimp Committee and Ecosystem-Based Management Committee. In addition, there will be a meeting of the full Council.

DATES: The meetings will be held in June 2004. See SUPPLEMENTARY INFORMATION for specific dates and times.

ADDRESSES: The meetings will be held at the Pier House, 1 Duval Street, Key West, FL 33040; telephone: (1-800) 327-8340 or (305) 296-4600, fax: 305/296-7569.

Copies of documents are available from Kim Iverson, Public Information Officer, South Atlantic Fishery Management Council, One Southpark Circle, Suite 306, Charleston, SC 29407-4699.

FOR FURTHER INFORMATION CONTACT: Kim Iverson, Public Information Officer; telephone: 843-571-4366 or toll free at 866/SAFMC-10; fax: 843-769-4520; e-mail: kim.iverson@safmc.net.

SUPPLEMENTARY INFORMATION:

Meeting Dates

1. Joint South Atlantic and Gulf Mackerel Committees Meeting: June 14, 2004, 9 a.m. until 5 p.m. and June 15, 2004, 8:30 a.m. until 5:30 p.m.

There will be a joint meeting of the South Atlantic and Gulf Mackerel Committees to review public comment on Amendment 15 to the Coastal Migratory Pelagics Fishery Management Plan regarding the current mackerel permit moratorium. Each committee will develop recommendations for Amendment 15 for public hearing. The Committees will also receive presentations regarding the Southeast Data, Assessment and Review (SEDAR) stock assessment process for mackerel, including reviews by the Scientific and Statistical Committees from each council, and discuss recommendations. During the joint meeting, the committees will also review items to be included in Amendment 16 and make recommendations to staff for amendment development.

2. Joint Mackerel Committee and Advisory Panel Meeting: June 16, 2004, 8:30 a.m. until 4 p.m.

There will be a joint meeting of the South Atlantic Council's Mackerel Committee and Advisory Panel to review Amendment 15 (permit moratorium), mackerel SEDAR stock assessment results and Amendment 16. The Advisory Panel will develop recommendations for the Committee to consider for each agenda item and the Committee will then finalize its recommendations for the full Council. In addition, the meeting participants will receive an update on the status of bycatch data collection and analysis and an overview on the Council's current efforts regarding ecosystem-based management.

3. South Atlantic Mackerel Committee Meeting: June 17, 2004, 8:30 a.m. until 10:30 a.m.

The Mackerel Committee will discuss and consider any additional committee action needed for Amendment 15 (permit moratorium) and Amendment 16 to the Coastal Migratory Pelagics FMP.

4. Scientific and Statistical Selection Committee Meeting (Closed Session): June 17, 2004, 10:30 a.m. until 12 noon.

The Scientific and Statistical Selection Committee will discuss the role and structure of the SSC, review current membership, develop recommendations for new appointments, and develop recommendations for new sub-committees.

5. Advisory Panel Selection Committee Meeting (Closed Session): June 17, 2004, 1:30 p.m. until 3:30 p.m.

The Advisory Panel Selection Committee will meet to review applications for open seats on the Council's advisory panels and develop recommendations for appointments.

6. SOPPs Committee Meeting: June 17, 2004, 3:30 p.m. until 5:30 p.m.

The SOPPs Committee will meet to review Standard Operating Policy and Procedures and develop recommendations for modification as needed.

7. Shrimp Committee Meeting: June 18, 2004, 8:30 a.m. until 12 noon.

The Shrimp Committee will receive an update on the status of the Shrimp Business Plan from NOAA Fisheries. The Committee will also review Amendment 6 to the Shrimp FMP involving federal shrimp permits and approve the document for public hearing.

8. Ecosystem-Based Management Committee Meeting: June 18, 2004, 1:30 p.m. until 5 p.m.

The Ecosystem-Based Management Committee will receive presentations on the status of the South Atlantic Council's work regarding ecosystem-based management, the South Atlantic ecopath model, the Chesapeake Bay Ecopath Model, and the Cooperative Internet Mapping Server and Essential Fish Habitat (EFH)/Ecosystem Homepage. The Committee will also review and discuss a draft action plan and provide direction and recommendations for future Committee and staff work.

9. Demonstration of Ecosystem Computer Models, Servers and Homepage: June 18, 2004, 5:30 p.m. until 7 p.m.

There will be an open meeting to view a demonstration of the ecosystem computer models, internet map servers and the EFH/Ecosystem homepage.

10. Council Session: June 19, 2004, 8:30 a.m. until 4 p.m.

From 8:30 a.m.-8:45 a.m., the Council will call the meeting to order, make introductions and roll call, and adopt the meeting agenda.

From 8:45 a.m.-9:45 a.m., the Council will hear a report from the Mackerel Committee and approve Amendment 15 for public hearing, consider recommendations on Mackerel SEDAR and take action as appropriate, and consider recommendations on Amendment 16 and take action as appropriate.

From 9:45 a.m.-10 a.m., the Council will hear a report from the SSC Committee, consider Committee recommendations and take action to appoint members if necessary.

From 10 a.m.-10:30 a.m., the Council will hear a report from the Advisory Panel Selection Committee and take action to appoint members to the advisory panels.

From 10:30 a.m.-11 a.m., the Council will hear a report from the SOPPs Committee and modify the SOPPs as appropriate.

From 11 a.m.-11:30 a.m., the Council will hear a report from the Shrimp Committee, consider recommendations, and approve Amendment 6 to the Shrimp FMP for public hearing.

From 11:30 a.m. until 12 noon, the Council will hear a report from the Ecosystem-Based Management Committee.

From 1:30 p.m.-2 p.m., the Council will receive an update from the Information and Education Committee.

From 2 p.m.-2:30 p.m., the Council will hear a presentation on the Southeast Aquatic Resources Partnership (SARP) and discuss action to sign the SARP Memorandum of Understanding.

From 2:30 p.m.-3 p.m., the Council will hear a presentation regarding Snapper/Grouper management issues and take action as appropriate.

From 3 p.m.-3:30 p.m., the Council will hear status reports from NOAA Fisheries.

From 3:30 p.m.-4 p.m., the Council will hear agency and liaison reports, discuss other business and upcoming meetings.

Documents regarding these issues are available from the Council office (see ADDRESSES).

Although non-emergency issues not contained in this agenda may come before this Council for discussion, those issues may not be the subjects of formal Council action during this meeting. Council action will be restricted to those issues specifically listed in this notice and any issues arising after publication of this notice that require emergency action under section 305(c) of the Magnuson-Stevens Act, provided the public has been notified of the Council's intent to take final action to address the emergency.

Except for advertised (scheduled) public hearings and public comment, the times and sequence specified on this agenda are subject to change.

Special Accommodations

These meetings are physically accessible to people with disabilities. Requests for sign language interpretation or other auxiliary aids should be directed to the Council office (see ADDRESSES) by June 11, 2004.

Dated: May 25, 2004.
Alan D. Risenhoover,
Acting Director, Office of Sustainable Fisheries, National Marine Fisheries Service.

[FR Doc. E4-1226 Filed 5-27-04; 8:45 am]

BILLING CODE 3510-22-S